DEPARTMENT OF DEFENSE

Office of the Secretary

Defense Innovation Board; Notice of Federal Advisory Committee Meeting

AGENCY: Under Secretary of Defense for Research and Engineering, Defense Innovation Board, Department of Defense, DoD.

ACTION: Notice of federal advisory committee meeting.

SUMMARY: The Department of Defense (DoD) is publishing this notice to announce that the following federal advisory committee meeting of the Defense Innovation Board (DIB) will take place.

DATES: Closed to the public Wednesday, October 10, 2018 from 10:00 a.m. to 12:00 p.m. Open to the public Wednesday, October 10, 2018 from 2:30 p.m. to 5:00 p.m.

ADDRESSES: The closed portion of the meeting will be held at the Pentagon, Arlington, Virginia. The open portion of the meeting will be held at the Johns Hopkins University, School of Advanced International Studies, Kenney Auditorium, 1740 Massachusetts Avenue NW, Washington, DC 20036. The public meeting will be live streamed for those who are unable to physically attend the meeting.

FOR FURTHER INFORMATION CONTACT: Michael L. Gable, (571) 372-0933 (Voice), michael.l.gable.civ@mail.mil (Email) or OSD.Innovation@mail.mil. Mailing address is Defense Innovation Board, ATTN: Designated Federal Officer, 3030 Defense Pentagon, Room 5E572, Washington, DC 20301-3030. Website: http://innovation.defense.gov. The most up-to-date changes to the meeting agenda can be found on the website.

SUPPLEMENTARY INFORMATION: Due to circumstances beyond the control of the Department of Defense (DoD) and the Designated Federal Officer, the Defense Innovation Board was unable to provide public notification required by 41 CFR 102-3.150(a) concerning the meeting on October 10, 2018 of the Defense Innovation Board. Accordingly, the Advisory Committee Management Officer for the Department of Defense, pursuant to 41 CFR 102-3.150(b), waives the 15-calendar day notification requirement. This meeting is being held under the provisions of the Federal Advisory Committee Act (FACA) (5 U.S.C., Appendix), the Government in the Sunshine Act (5 U.S.C. 552b) (“the Sunshine Act”), and 41 CFR 102-3.140 and 102-3.150.

Purpose of the Meeting: The mission of the DIB is to examine and provide the Secretary of Defense and the Deputy Secretary of Defense independent advice and recommendations on innovative means to address future challenges in terms of integrated change to organizational structure and processes, business and functional concepts, and technology applications. The DIB focuses on (a) technology and capabilities, (b) practices and operations, and (c) people and culture.

Agenda: During the closed portion of the meeting, the Board will discuss the National Defense Strategy with the Secretary of Defense, especially as it relates to artificial intelligence (AI) and software capabilities. The board will also meet with the Chief Information Officer to discuss AI principles and the Joint AI Center (JAIC). During the open portion of the meeting, the DIB will hear expert presentations on AI. Experts include Dr. Heather Roff, Sr. Research Analyst, John Hopkins University Applied Physics Lab, and Dr. Andrew Lohn, Engineer, RAND Corporation. The DIB will deliberate on artificial intelligence principles for defense and data as a strategic asset, as well as receive an update on progress on the Software Acquisition and Practices (SWAP) study directed in the National Defense Authorization Act for Fiscal Year 2018 (“the FY18 NDAA”). The DIB will hear from experts regarding SWAP study activities within DoD. Experts include Mr. Jeff Boleng, Office of the Under Secretary of Defense for Acquisition and Sustainment; Mr. Leo Garciga, Defense Threat Reduction Agency; Dr. Amy Henninger, Office of the Chief Management Officer; Ms. Philomena Zimmerman, Office of the Undersecretary of Defense for Research and Engineering; Ms. Jane Rathbun, Deputy Assistant Secretary of the Navy for Command, Control, Computers, Intelligence, Information Operations and Space; Major Justin Ellsworth, U.S. Air Force, Congressional Research Service. Additionally, Mr. Joshua Marcuse, in his role as the Innovation Advisor to the Chief Management Officer, will brief the DIB on DoD's latest implementation activities related to DIB recommendations. Members of the public will have an opportunity to provide oral comments to the DIB regarding its deliberations and potential recommendations. See below for additional information on how to sign up to provide public comments.

Meeting Accessibility: Pursuant to 5 U.S.C. 552b(c)(1), the DoD has determined that the portion of the meeting from 10:00 a.m. to 12:00 p.m. shall be closed to the public. The USD(R&E), in consultation with the Office of the DoD General Counsel, has determined in writing that this portion of the DIB's meeting will be closed as the discussions will involve classified matters of national security. Such classified material is so inextricably intertwined with the unclassified material that it cannot reasonably be segregated into separate discussions without disclosing matters that are classified SECRET or higher. Pursuant to Federal statutes and regulations (the FACA, the Sunshine Act, and 41 CFR 102-3.140 through 102-3.165) and the availability of space, the meeting is open to the public from 2:30 p.m. to 5:00 p.m. Seating is on a first-come basis. Members of the public wishing to attend the meeting or wanting to receive a link to the live stream webcast should register on the DIB website, http://innovation.defense.gov, no later than October 9, 2018. Members of the media should RSVP to Lieutenant Colonel Michelle Baldanza, U.S. Army, Office of the Secretary of Defense Public Affairs, at michelle.l.baldanza.mil@mail.mil.

Special Accommodations: Individuals requiring special accommodations to access the public meeting should contact the Designated Federal Officer (DFO), see For Further Information Contact section for contact information, no later than October 8, 2018, so that appropriate arrangements can be made.

Written Statements: Pursuant to section 10(a)(3) of the FACA and 41 CFR 102-3.140, the public or interested organizations may submit written comments to the DIB about its approved agenda pertaining to this meeting or at any time regarding the DIB's mission. Individuals submitting a written statement must submit their statement to the DFO (see For Further Information Contact section for contact information). Written comments that do not pertain to a scheduled meeting may be submitted at any time. However, if individual comments pertain to a specific topic being discussed at the planned meeting, then such comments must be received in writing not later than October 9, 2018. The DFO will compile all written submissions and provide them to DIB members for consideration.

Oral Presentations: Individuals wishing to make an oral statement to the DIB at the public meeting may be permitted to speak for up to two minutes. Anyone wishing to speak to the DIB should submit a request by email at osd.innovation@mail.mil not later than October 9, 2018 for planning. Requests for oral comments should include a copy or summary of planned remarks for archival purposes. Individuals may also be permitted to submit a comment request at the public meeting; however, depending on the number of individuals requesting to speak, the schedule may limit participation. Webcast attendees will be provided instructions with the live stream link if they wish to submit comments during the open meeting.

Dated: October 4, 2018.
Shelly E. Finke,
Alternate OSD Federal Register Liaison Officer, Department of Defense.

[FR Doc. 2018-22023 Filed 10-9-18; 8:45 am]

BILLING CODE 5001-06-P